DEPARTMENT OF EDUCATION

Office of Elementary and Secondary Education; Overview Information, Striving Readers; Notice Inviting Applications for New Awards for Fiscal Year (FY) 2005

Catalog of Federal Domestic Assistance (CFDA) Number: 84.371A

Dates:

Applications Available: August 15, 2005.

Deadline for Notice of Intent to Apply: September 14, 2005.

Deadline for Transmittal of Applications: November 14, 2005.

Deadline for Intergovernmental Review: December 13, 2005.

Dates of Pre-Application Meetings: The Department will conduct a series of briefings on this competition via conference call to clarify the purposes of the program, the selection criteria, and the competition process. Consult the Striving Readers Web site at http://www.ed.gov/programs/strivingreaders for dates and times of the pre-application meetings.

Eligible Applicants: Local educational agencies (LEAs) that have schools that—

1. Are eligible to receive funds under Part A of Title I of the Elementary and Secondary Education Act of 1965, as amended (ESEA), pursuant to section 1113 of the ESEA, and

2. Serve students in one or more grades in grades 6 through 12.

Eligible LEAs may apply individually, with other eligible LEAs, or in partnership with one or more of the following entities:

○ State educational agencies (SEAs),

○ Intermediate service agencies,

○ Public or private institutions of higher education, and

○ Public or private organizations with expertise in adolescent literacy and/or rigorous evaluation.

In any partnership, the fiscal agent must be an eligible LEA.

Estimated Available Funds: $24,000,000. Contingent upon the availability of funds and quality of applications we may make additional awards in subsequent years from the list of unfunded applicants from this competition.

Estimated Range of Awards: $1,000,000-5,000,000 per year.

Estimated Average Size of Awards: $3,000,000 per year.

Maximum Award Amount: We do not intend to make any awards exceeding $5,000,000 per year.

Estimated Number of Awards: 8.

Note: The Department is not bound by any estimates in this notice.

Project Period: Up to 60 months. Continuation awards are contingent on a grantee's progress and future Congressional appropriations.

Full Text of Announcement

I. Funding Opportunity Description

Purpose of Program: The purpose of the Striving Readers program is to raise the reading achievement levels of middle and high school-aged students in Title I-eligible schools with significant numbers of students reading below grade level. The program supports new comprehensive reading initiatives or expansion of existing initiatives that improve the quality of literacy instruction across the curriculum, provide intensive literacy interventions to struggling adolescent readers, and help to build a strong, scientific research base for identifying and replicating strategies that improve adolescent literacy skills.

Priorities: We are establishing these priorities in accordance with section 437(d)(1) of the General Education Provisions Act.

Absolute Priorities: For FY 2005 and any subsequent year in which we make awards based on the list of unfunded applicants from this competition, these priorities are absolute priorities. Under 34 CFR 75.105(c)(3) we consider only applications that meet these priorities.

These priorities are: Priority One—Students in Grades 6 through 12 in Title I-eligible schools; and Priority Two—Comprehensive Reading Initiative Components.

Background of Priority One

The first absolute priority is established to ensure that the funds will be targeted as intended by the authorizing statute.

Statement of Priority One—Students in Grades 6 Through 12 in Title I-Eligible Schools

The applicant, if awarded a grant under this program, will use the funds to serve only students in one or more grades in grades 6 through 12 in schools eligible to receive funds under Part A of Title I of the ESEA.

Background of Priority Two

The second absolute priority is established to ensure that Striving Readers projects will result in accelerated reading achievement for adolescents reading significantly below grade level, including limited English proficient students and students with disabilities. This absolute priority is also established to ensure that the evaluations of Striving Readers projects include rigorous scientifically based research methods and that the evaluations are of sufficient quality to determine the effectiveness of the interventions provided.

The experimental evaluation design of the targeted intervention must include a randomized controlled trial “ an experimental design in which participants (e.g., schools or students) are randomly assigned either to participate in the project activities or to a control group that does not participate in the project activities to be evaluated.

Well-designed and implemented randomized control trials are considered the “gold standard” for evaluating an intervention's effectiveness. They enable the evaluator to determine whether the intervention itself, as opposed to other factors, causes the observed outcomes.

The Institute for Educational Sciences' (IES) What Works Clearinghouse supports a Help Desk that applicants can contact to help identify interventions and design evaluations that meet IES evidence standards. For more information see: http://www.whatworks.ed.gov.

Statement of Priority Two—Comprehensive Reading Initiative Components

The applicant, if awarded a grant under this program, will use the funds to support a comprehensive reading initiative that includes the following components:

1. School-level strategies designed to increase reading achievement for students by integrating enhanced literacy instruction throughout the curriculum and the entire school. These strategies must include, at a minimum, a needs assessment, professional development, and a process for monitoring student performance.

2. An intensive, targeted intervention for struggling readers (i.e., students who read at least two years below grade level, including limited English proficient students and students with disabilities). The intervention must include, at a minimum, assessments to identify struggling readers, a supplementary literacy intervention designed to accelerate the development of literacy skills for these readers, professional development for their teachers, and a process for monitoring student progress that includes the administration of student assessments.

3. A project evaluation that includes—

(a) A rigorous experimental research evaluation of the intensive, targeted intervention for struggling readers. The evaluation of the intensive, targeted intervention must be conducted by an independent evaluator and must include a randomized control trial; and

(b) A rigorous evaluation of the school-level strategies designed to increase reading achievement for students by integrating enhanced literacy instruction throughout the curriculum and the school. The evaluation of the school-level strategies must be conducted by an independent evaluator and may, but need not, include a randomized control trial.

To meet this priority, applicants must demonstrate that they have allocated sufficient program and other funds to carry out a high-quality evaluation of the proposed Striving Readers project. Applicants also will need to include a sufficient number of schools and students to support an experimental evaluation design of the targeted intervention.

Other Program Requirements

1. Funding Allocation: The Secretary may fund projects out of rank order in order to ensure that the Striving Readers funding is balanced between projects serving middle and high school students.

2. Literacy Study Participants: Applicants may not apply for Striving Readers funds on behalf of, or use Striving Readers funds in, schools participating in the current Smaller Learning Communities Enhanced Reading Opportunities (ERO) Study, a U.S. Department of Education funded national research evaluation of supplemental adolescent literacy programs.

3. Implementation Schedule: The 2006-2007 school year will be considered the first year for full Striving Readers project implementation. A grantee may use that portion of the 2005-2006 school year that remains after it receives its award as a planning period to prepare for the full implementation of its Striving Readers project during the following school year and to complete the design of Striving Readers project evaluation. The Department will provide technical assistance on evaluation plans during the planning period and throughout the project period.

4. Project Meetings: Each applicant must budget for—

(a) The project director, the project evaluator, and up to two other key staff members to attend a two-day technical assistance meeting with Department officials in Washington, DC at least twice a year for each year of the project period; and

(b) The project director and the evaluator to attend a two-day post-award conference with Department officials in Washington, DC after the grant award date.

Waiver of Proposed Rulemaking: Under the Administrative Procedure Act (APA) (5 U.S.C. 553), the Department generally offers interested parties the opportunity to comment on proposed priorities, eligibility requirements, and other non-statutory program requirements. Section 437(d)(1) of the General Education Provisions Act (20 U.S.C. 1232(d)(1)), however, allows the Secretary to exempt from rulemaking requirements, regulations governing the first grant competition under a new or substantially revised program authority. This is the first grant competition for this program under section 1502 of the ESEA and, therefore, qualifies for this exemption. In order to ensure timely grant awards, the Secretary has decided to forego public comment on the absolute priorities, eligibility requirements, and non-statutory program requirements under section 437(d)(1). These absolute priorities, eligibility requirements and non-statutory program requirements will apply to the FY 2005 grant competition and any subsequent awards we make based on the list of unfunded applications from this competition.

Program Authority: 20 U.S.C. 6492.

Applicable Regulations: The Education Department General Administrative Regulations (EDGAR) in 34 CFR parts 74, 75, 77, 79, 80, 81, 82, 84, 85, 86, 97, 98, and 99, as applicable.

Note: The regulations in 34 CFR part 79 apply to all applicants except federally recognized tribes.

Note: The regulations in 34 CFR part 86 apply to institutions of higher education only.

II. Award Information

Type of Award: Cooperative agreement.

Estimated Available Funds: $24,000,000. Contingent upon the availability of funds and quality of applications we may make additional awards in subsequent years from the list of unfunded applicants from this competition.

Estimated Range of Awards: $1,000,000-5,000,000 per year.

Estimated Average Size of Awards: $3,000,000 per year.

Maximum Award Amount: We do not intend to make any awards exceeding $5,000,000 per year.

Estimated Number of Awards: 8.

Note: The Department is not bound by any estimates in this notice.

Project Period: Up to 60 months. Continuation awards are contingent on a grantee's progress and future Congressional appropriations.

III. Eligibility Information

1. Eligible Applicants: LEAs that have schools that—

a. Are eligible to receive funds under Part A of Title I of the ESEA, pursuant to section 1113 of the ESEA, and

b. Serve students in one or more grades in grades 6 through 12.

Eligible LEAs may apply individually, with other eligible LEAs, or in partnership with one or more of the following entities:

○ SEAs,

○ Intermediate service agencies,

○ Public or private institutions of higher education, and

○ Public or private organizations with expertise in adolescent literacy and/or rigorous evaluation.

In any partnership, the fiscal agent must be an eligible LEA.

Note: For more information on determining Title I eligibility see: http://www.ed.gov/programs/titleiparta/wdag.doc.

2. Cost Sharing or Matching: This program does not involve cost sharing or matching.

IV. Application and Submission Information

1. Address to Request Application Package: You may obtain the application package electronically by downloading it from the Striving Readers Web site: http://www.ed.gov/programs/strivingreaders/applicant.html.

You may also request an application package by contacting the Striving Readers program contact person listed in section VII of this notice at (202) 205-6272 or by e-mail at StrivingReaders@ed.gov.

Individuals with disabilities may obtain a copy of the application package in an alternative format (e.g., Braille, large print, audiotape, or computer diskette) by contacting the program contact person listed in section VII of this notice.

2. Content and Form of Application Submission: Requirements concerning the content of the application, together with the forms you must submit, are in the application package for this program.

Page Limits: The application narrative for this program (Part II of the application) is where you, the applicant, address the selection criteria that reviewers use to evaluate your application. We strongly encourage applicants to limit Part II of the application to the equivalent of no more than 60 pages. Part III of the application is where you, the applicant, provide a budget narrative that reviewers use to evaluate your application. We strongly encourage you to limit the budget narrative in Part III to the equivalent of no more than five pages. Part IV of the application is where you, the applicant, provide the list and a brief description of the schools included in the proposed Striving Readers project, up to five resumes (curriculum vitae), and the demonstration of stakeholder support for the project that reviewers use to evaluate your application. The Department strongly encourages applicants to limit the list and the brief description of the schools to the equivalent of no more than 10 pages. The Department also strongly encourages applicants to limit each resume to the equivalent of no more than three pages each and limit the demonstration of stakeholder support for the project to the equivalent of no more than 10 pages. While the Department strongly encourages applicants to follow page limit recommendations, applications that exceed these limits will not be excluded from the competition. For all page limit recommendations, use the following standards:

• A “page” is 8.5″ x 11″, on one side only, with 1″ margins at the top, bottom, and both sides.

• Double space (no more than three lines per vertical inch) all text in the application narrative, including titles, headings, footnotes, quotations, and references included in the body of the narrative.

• Text in endnotes, charts, tables, figures, and graphs may be single-spaced.

• Use a font that is either 12 point or larger or no smaller than 10 pitch (characters per inch), including text in endnotes, charts, tables, figures, and graphs.

• The page limits do not apply to Part I, the cover sheet and the one-page abstract; the budget (ED Form 524); or the endnotes.

3. Submission Dates and Times:

Applications Available: August 15, 2005.

Deadline for Notice of Intent to Apply: September 14, 2005.

In order to expedite the process for reviewing grant applications, we strongly encourage each potential applicant to send a notice of its intent to apply for funding to the following address: StrivingReaders@ed.gov. The notice of intent to apply is optional and should not include information regarding the proposed application.

Dates of Pre-Application Meetings: The Department will conduct a series of briefings on this competition via conference call to clarify the purposes of the program, the selection criteria, and the competition process. Consult the Striving Readers Web site at http://www.ed.gov/programs/strivingreaders for dates and times of the pre-application meetings.

Deadline for Transmittal of Applications: November 14, 2005.

Applications for grants under this program must be submitted electronically using the Electronic Grant Application System (e-Application) available through the Department's e-Grants system. For information (including dates and times) about how to submit your application electronically or by mail or hand delivery if you qualify for an exception to the electronic submission requirement, please refer to section IV.

6. Other Submission Requirements in this notice.

Deadline for Intergovernmental Review: December 13, 2005.

We do not consider an application that does not comply with the deadline for transmittal of applications.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications.

Applications for grants under the Striving Readers program—CFDA Number 84.371A must be submitted electronically using e-Application available through the Department's e-Grants system, accessible through the e-Grants portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application must be attached as files in a .DOC (document), .RTF (rich text), or .PDF (Portable Document) format.

▪ Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Kathryn Doherty, U.S. Department of Education, 400 Maryland Avenue, SW., Room 3W309, Washington, DC 20202-6132. FAX: (202) 205-0303.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.371A), 400 Maryland Avenue, SW., Washington, DC 20202-4260; or

By mail through a commercial carrier: U.S. Department of Education, Application Control Center—Stop 4260, Attention: (CFDA Number 84.371A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (Number 84.371A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria

The selection criteria for this program are from 34 CFR 75.210 of EDGAR and are as follows. Further information about each of these selection criteria is in the application package. The maximum score for each criterion is listed in parentheses next to the title of the criterion.

(i) Need for project. (5 points) The Secretary considers the need for the proposed project. In determining the need for the proposed project, the Secretary considers the following factors:

(a) The magnitude of the need for the services to be provided or the activities to be carried out by the proposed project. (34 CFR 75.210(a)(2)(ii))

(b) The extent to which the proposed project will provide services or otherwise address the needs of students at risk of educational failure. (34 CFR 75.210(a)(2)(iii))

(ii) Quality of the project design. (40 points) The Secretary considers the quality of the design of the proposed project. In determining the quality of the design of the proposed project, the Secretary considers the following factors:

(a) The extent to which the design of the proposed project is appropriate to, and will successfully address, the needs of the target population or other identified needs. (34 CFR 75.210(c)(2)(ii))

(b) The extent to which the proposed project is based upon a specific research design, and the quality and appropriateness of that design, including the scientific rigor of the studies involved. (34 CFR 75.210(c)(2)(vi))

(c) The extent to which the design of the proposed project reflects up-to-date knowledge from research and effective practice. (34 CFR 75.210(c)(2)(xiii))

(iii) Quality of project personnel. (10 points) The Secretary considers the quality of the personnel who will carry out the proposed project. In determining the quality of project personnel, the Secretary considers the extent to which the applicant encourages applications for employment from persons who are members of groups that have traditionally been underrepresented based on race, color, national origin, gender, age, or disability. (34 CFR 75.210(e)(1), (2))

In addition, the Secretary considers the following factors:

(a) The qualifications, including relevant training and experience, of the project director. (34 CFR 75.210(e)(3)(i))

(b) The qualifications, including relevant training and experience of key project personnel. (34 CFR 75.210(e)(3)(ii)).

(c) The qualifications, including relevant training and experience, of project consultants or subcontractors. (34 CFR 75.210(e)(3)(iii))

(iv) Adequacy of resources. (5 points) The Secretary considers the adequacy of resources for the proposed project. In determining the adequacy of resources for the proposed project, the Secretary considers the following factors:

(a) The relevance and demonstrated commitment of each partner in the proposed project to the implementation and success of the project. (34 CFR 75.210(f)(2)(ii))

(b) The extent to which the costs are reasonable in relation to the objectives, design, and potential significance of the proposed project. (34 CFR 75.210(f)(2)(iv))

(v) Quality of the management plan. (5 points) The Secretary considers the quality of the management plan for the proposed project. In determining the quality of the management plan for the proposed project, the Secretary considers the following factors:

(a) The adequacy of the management plan to achieve the objectives of the proposed project on time and within budget, including clearly defined responsibilities, timelines, and milestones for accomplishing project tasks. (34 CFR 75.210(g)(2)(i))

(b) The extent to which the time commitments of the project director and other key project personnel are appropriate and adequate to meet the objectives of the proposed project. (34 CFR 75.210(g)(2)(iv))

(vi) Quality of the project evaluation. (30 points) The Secretary considers the quality of the evaluation to be conducted of the proposed project. In determining the quality of the evaluation of the proposed project, the Secretary considers the following factors:

(a) The extent to which the methods of evaluation are thorough, feasible, and appropriate to the goals, objectives, and outcomes of the proposed project. (34 CFR 75.210(h)(2)(i))

(b) The extent to which the methods of evaluation provide for examining the effectiveness of project outcomes and implementation strategies. (34 CFR 75.210(h)(2)(iii))

(c) The extent to which the evaluation will provide guidance about effective strategies suitable for replication or testing in other settings. (34 CFR 75.210(h)(2)(vii))

(vii) Significance. (5 points) The Secretary considers the significance of the proposed project. In determining the significance of the proposed project, the Secretary considers the following factor:

(a) The potential contribution of the proposed project to the development and advancement of theory, knowledge, and practices in the field of study. (34 CFR 75.210(b)(2)(vi))

VI. Award Administration Information

1. Award Notices: If your application is successful, we notify you in writing and post the list of successful applicants on the Striving Readers Web site at http://www.ed.gov/programs/strivingreaders/applicant.html. If your application is successful, we also notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Secretary has established the following two measures for evaluating the overall effectiveness of the Striving Readers program: (1) The percentage of adolescent students reading significantly below grade level who demonstrate a gain in their reading achievement, at a minimum of one grade level or its equivalent after participating in an intensive intervention over an academic year; and (2) the percentage of schools participating in the Striving Readers intervention that demonstrate performance gains on their State's assessment of reading or language arts achievement.

We will expect all grantees to document their success in addressing these performance measures in the annual performance report referred to in section VI.3. of this notice.

VII. Agency Contact

For Further Information Contact: Kathryn Doherty, U.S. Department of Education, 400 Maryland Avenue, SW., Room 3W309, Washington, DC 20202-6132. Telephone: (202) 205-6272 or by e-mail: StrivingReaders@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 10, 2005.
Raymond Simon,
Deputy Secretary.

[FR Doc. 05-16135 Filed 8-12-05; 8:45 am]

BILLING CODE 4000-01-P